ENVIRONMENTAL PROTECTION AGENCY

40 CFR Part 51

[AH-FRL-6536-3]

RIN 2060-AF01

Requirements for Preparation, Adoption, and Submittal of State Implementation Plans (Guideline on Air Quality Models)

Correction

In proposed rule document 00-4235 beginning on page 21506 in the issue of Friday, April 21, 2000, make the following correction:

Appendix W to Part 51 [Corrected]

On page 21520, in the second column, in the appendix, in the second line, after “through d:” add the following figure:

[FR Doc. C0-4235 Filed 8-8-00; 8:45 am]

BILLING CODE 1505-01-D